DEPARTMENT OF THE INTERIOR

Bureau of Land Management

[WO-250-1231-EB-01-24 1A]

Extension of Approved Information Collection, OMB Number 1004-0119

AGENCY: Bureau of Land Management, Interior.

ACTION: Notice and request for comments.

SUMMARY: In accordance with the Paperwork Reduction Act of 1995, the Bureau of Land Management (BLM) announces its intention to request renewal of an existing approval to collect certain information from recreation visitors to areas of the public lands, and related waters, where special recreation permits are required. This information allows BLM to authorize requested use, determine appropriate fees, and will also be used to tabulate recreation use data for the annual Federal Recreation Fee Report as required by the Land and Water Conservation Act.

DATES: You must submit your comments to BLM at the appropriate address below on or before January 29, 2001. BLM will not necessarily consider any comments received after the above date.

ADDRESSES: Comments may be mailed to: Regulatory Affairs Group (630), Bureau of Land Management, 1849 C Street, NW., Room 401LS, Washington, DC 20240.

Comments may be sent via Internet to: WOComment@blm.gov. Please include “ATTN: 1004-0119” and your name and return address in your Internet message.

You may hand-deliver comments to the Bureau of Land Management, Administrative Record, Room 401, 1620 L Street, NW., Washington, D.C.

BLM will make comments available for public review at the L Street address during regular business hours (7:45 a.m. to 4:15 p.m.), Monday through Friday.

FOR FURTHER INFORMATION CONTACT: Lee Larson, (202) 452-5168.

SUPPLEMENTARY INFORMATION: In accordance with 5 CFR 1320.12(a), BLM is required to provide 60-day notice in the Federal Register concerning a collection of information contained in BLM Form 8370-1 to solicit comments on (a) whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology. BLM will receive and analyze any comments sent in response to this notice and include them with its request for approval from the OMB under 44 U.S.C. 3501 et seq.

Respondents supply identifying information and data on proposed commercial, competitive, or individual recreation use, respectively, when required, to determine eligibility for a permit. This information allows the BLM to authorize requested use, determine appropriate fees, and will also be used to tabulate recreation use data for the annual Federal Recreation Fee Report as required by the Land and Water Conservation Act.

Based on BLM's experience administering the activities described above, the public reporting burden for the information collected is estimated to average about 30 minutes per response. The respondents are recreation visitors to areas of the public lands, and related waters, where special recreation permits are required. The frequency of response is on occasion. The number of responses per year is estimated to total 31,000. The estimated total annual burden is 15,500 hours. BLM is specifically requesting your comments on its estimate of the amount of time that it takes to prepare a response.

BLM will summarize all responses to this notice and include them in the request for Office of Management and Budget approval. All comments will also become a matter of public record.

Dated: November 27, 2000.
Michael Schwartz,
BLM Information Collection Clearance Officer.

[FR Doc. 00-30491 Filed 11-29-00; 8:45 am]

BILLING CODE 4310-84-M